CONSUMER PRODUCT SAFETY COMMISSION

[Docket No. CPSC-2012-0034]

Agency Information Collection Activities; Submission for OMB Review; Comment Request—Baby Bouncers and Walker-Jumpers

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information relating to certain children's articles known as baby-bouncers and walker-jumpers, approved previously under OMB Control No. 3041-0019. In the Federal Register of October 26, 2015 (80 FR 65218), the CPSC published a notice to announce the agency's intention to seek extension of approval of the collection of information. The Commission received no comments. Therefore, by publication of this notice, the Commission announces that CPSC has submitted to the OMB a request for extension of approval of that collection of information, without change.

DATES: Written comments on this request for extension of approval of information collection requirements should be submitted by March 3, 2016.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at: http://www.regulations.gov, under Docket No. CPSC-2012-0034.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

Title: Ban of Certain Articles Known as Baby-Bouncers or Walker-Jumpers.

OMB Number: 3041-0019.

Type of Review: Renewal of collection.

Frequency of Response: On occasion.

Affected Public: Manufacturers and importers of baby-bouncers or walker-jumpers.

Estimated Number of Respondents: 33 firms that supply baby-bouncers or walker-jumpers to the United States market have been identified; there are approximately 4 new models per firm annually.

Estimated Time per Response: 30 minutes/model associated with labeling requirements and 1 hour/model associated with recordkeeping requirements.

Total Estimated Annual Burden: 132 hours on recordkeeping (33 firms × 1 hour × 4 models) and 66 hours for labeling (33 firms × ½ hour × 4 models) for a total annual burden of 198 hours per year.

General Description of Collection: Under 16 CFR 1500.18(a)(6), certain articles known as “baby-bouncers” and “walker-jumpers” that are intended to support very young children while sitting, bouncing, jumping, and/or reclining, are banned if they are designed in such a way that exposed parts present hazards, such as amputation, crushing, laceration, fracture, hematoma, bruise, or other injury to fingers, toes, or other parts of the anatomy of young children. An exemption from the ban is provided at 16 CFR 1500.86(a)(4) if the products are designed to guard against or prevent those same injuries. Among other requirements, the regulations require manufacturers, including importers, to meet the collection of information requirements for labeling and recordkeeping requirements.

Products that are the subject of this information collection are distinguishable from the infant bouncer seats that are the subject of the Commission's recent proposed safety standard on infant bouncer seats at 80 FR 63168 (Oct. 19, 2015). Infant bouncer seats described in the Commission's proposed standard are intended to hold young infants that cannot sit up unassisted in a reclined position (approximately 0 to 6 months of age). The products subject to this information collection are typically described as doorway jumpers, and allow the child to jump in place. Such products are intended for use with children that are beginning to develop leg strength to aid in learning to walk.

Dated: January 27, 2016.
Todd A. Stevenson,
Secretary, Consumer Product Safety Commission.

[FR Doc. 2016-01779 Filed 2-1-16; 8:45 am]

BILLING CODE 6355-01-P